DEPARTMENT OF COMMERCE

National Oceanic and Atmospheric Administration

RIN 0648-XD397

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold public hearings for Sector Separation—Amendment 40.

DATES: The public hearings will be held from Monday, August 4 through Tuesday, August 19, 2014 at eight locations throughout the Gulf of Mexico. The public hearings will begin at 6 p.m. and will conclude no later than 9 p.m. For specific dates and locations see SUPPLEMENTARY INFORMATION below.

ADDRESSES:

Meeting address: The public hearings will be held in the following locations: Orange Beach and Mobile, AL; Gulfport, MS; Panama City and St. Petersburg, FL; Baton Rouge, LA; and Galveston and Port Aransas, TX.

Council address: Gulf of Mexico Fishery Management Council, 2203 North Lois Avenue, Suite 1100, Tampa, FL 33607.

FOR FURTHER INFORMATION CONTACT: Dr. Assane Diagne, Economist, Gulf of Mexico Fishery Management Council; telephone: (813) 348-1630; fax: (813) 348-1711; email: assane.diagne@gulfcouncil.org.

SUPPLEMENTARY INFORMATION: The items of discussion in the public hearings are as follows:

Sector Separation—Amendment 40

Defines distinct private angling and federal for-hire components of the recreational red snapper fishery and allocate red snapper resources between these recreational components.

The public hearings will begin at 6 p.m. and conclude at the end of public testimony or no later than 9 p.m. at the following locations:

Monday, August 4, 2014, Hilton Galveston Island Hotel, 5400 Seawall Boulevard, Galveston Island, TX 77551 (409) 744-5000; Sirata Beach Hotel, 5300 Gulf Boulevard, St. Pete Beach, FL 33706; telephone: (727) 897-5200;

Tuesday, August 5, 2014, Plantation Suites & Conference Center, 1909 State Highway 361, Port Aransas, TX 78373; telephone: (361) 749-3866;

Wednesday, August 6, 2014, Fairfield Inn & Suites by Marriott, 3111 Loop Road, Orange Beach, AL 36561; telephone: (251) 543-4444;

Thursday, August 7, 2014, Renaissance Mobile Riverview Plaza Hotel, 64 South Water Street, Mobile, AL 36602; telephone: (251) 438-4000;

Tuesday, August 12, 2014, Holiday Inn Select, 2001 MLK Boulevard, Panama City, FL 32405; telephone: (866) 866-0441;

Monday, August 18, 2014, Hyatt Place Baton Rouge, 6080 Bluebonnet Boulevard, Baton Rouge, LA 70808; telephone: (225) 769-4400; and

Tuesday, August 19, 2014, Courtyard by Marriott Gulfport Beachfront, 1600 E. Beach Boulevard, Gulfport, MS 39501; telephone: (228) 864-4310.

Copies of the public hearing documents can be obtained by calling (813) 348-1630 or visiting www.GulfCouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 16, 2014.
Tracey L. Thompson,
Acting Deputy Director, Office of Sustainable Fisheries, National Marine Fisheries Service.

[FR Doc. 2014-17026 Filed 7-18-14; 8:45 am]

BILLING CODE 3510-22-P